DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: July 25, 2024, 10 a.m.

PLACE: Room 2C, 888 First Street NE, Washington, DC 20426.

STATUS: Open to the public.

MATTERS TO BE CONSIDERED: Agenda.

*Note—Items listed on the agenda may be deleted without further notice.

CONTACT PERSON FOR MORE INFORMATION: Debbie-Anne A. Reese, Acting Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1116th—Meeting
[Open Meeting; July 25, 2024; 10:00 a.m.]
Item No. | Docket No. | Company
Administrative
A-1 | AD24-1-000 | Agency Administrative Matters.
A-2 | AD24-2-000 | Customer Matters, Reliability, Security and Market Operations.
Electric
E-1 | ER24-95-000 | New York Independent System Operator, Inc.
E-2 | ER24-138-000 | ISO New England Inc.
E-3 | ER24-155-000 | California Independent System Operator Corporation.
E-4 | ER24-156-000 | PJM Interconnection, L.L.C.
E-5 | ER24-165-000 | Midcontinent Independent System Operator, Inc.
E-6 | ER24-289-000 | Southwest Power Pool, Inc.
E-7 | ER24-1606-000 | Sol Systems, LLC.
E-8 | ER24-1775-000 | Southwest Power Pool, Inc.
E-9 | EL24-86-000 | New York Power Authority.
E-10 | EL24-107-000 | Pacific Gas and Electric Company.
E-11 | OMITTED
E-12 | OMITTED
E-13 | ER13-760-002 | Canastota Windpower, LLC.
| ER19-2644-002 | Whitney Hill Wind Power, LLC.
| ER19-430-002 | Enel Green Power Hilltopper Wind, LLC.
| ER22-2483-001 | Alta Farms Wind Project II, LLC.
E-14 | ER10-2527-011 | Allegheny Ridge Wind Farm, LLC.
| ER23-842-002 | Big Plain Solar, LLC.
| ER10-2532-019 | Crescent Ridge LLC.
| ER23-1497-001 | GSG Wind, LLC.
| ER20-1610-004 | Lone Tree Wind, LLC.
| ER23-1595-001 | LRE Energy Services, LLC.
| ER10-2535-013 | Mendota Hills, LLC.
| ER23-843-002 | Oak Trail Solar, LLC.
E-15 | ER16-355-004 | Colonial Eagle Solar, LLC.
| ER16-141-006 | Conetoe II Solar, LLC.
| ER15-255-005 | Duke Energy Beckjord Storage, LLC.
| ER10-2032-010 | Duke Energy Kentucky, Inc.
| ER10-2033-009 | Duke Energy Ohio, Inc.
| ER15-190-021 | Duke Energy Renewable Services, LLC.
| ER12-2313-007 | Laurel Hill Wind Energy, LLC.
| ER10-1330-009 | North Allegheny Wind, LLC.
| ER18-2466-002 | Federal Way Powerhouse LLC.
| ER18-2465-002 | Potter Road Powerhouse LLC.
| ER19-2343-003 | 2018 ESA Project Company, LLC.
| ER17-2336-007 | Shoreham Solar Commons LLC.
| ER18-1343-015 | Carolina Solar Power, LLC.
E-16 | ER14-225-008; ER14-225-009; EL23-95-000 | New Brunswick Energy Marketing Corporation.
E-17 | EL22-80-000 | American Municipal Power, Inc., Office of the People's Counsel for the District of Columbia, and the PJM Industrial Customer Coalition v. PJM Interconnection, L.L.C.
| EL22-85-000 | PJM Interconnection, L.L.C.
E-18 | ER22-962-005 | PJM Interconnection, L.L.C.
Gas
G-1 | IS20-108-001; IS21-133-000 | TransCanada Keystone Pipeline, LP.
| OR21-1-000 (consolidated) | Husky US Marketing LLC and Phillips 66 Company v. TransCanada Keystone Pipeline, LP.
Hydro
H-1 | P-15248-000 P-14869-000 | RAMM Power Group, LLC.
H-2 | P-15327-000 | New England Hydropower Company, LLC.
H-3 | P-15302-001 | LinkPast Solutions, Inc.
H-4 | P-2701-066 | Erie Boulevard Hydropower, L.P.
H-5 | P-1881-110 | BIF III Holtwood, LLC.
H-6 | CD24-2-001 | River Roar Energy LLC.
H-7 | P-5261-024 | Green Mountain Power Corporation.
H-8 | P-9709-073 | ECOsponsible, LLC.
H-9 | DI22-5-001 | Antelope Valley Water Storage LLC.
Certificates
C-1 | CP23-523-000 | ANR Pipeline Company.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: July 18, 2024.
Debbie-Anne A. Reese,
Acting Secretary.

[FR Doc. 2024-16296 Filed 7-22-24; 11:15 am]

BILLING CODE 6717-01-P